NATIONAL AERONAUTICS AND SPACE ADMINISTRATION

[Notice: (21-037)]

NASA Astrophysics Advisory Committee; Meeting

AGENCY: National Aeronautics and Space Administration.

ACTION: Notice of meeting.

SUMMARY: In accordance with the Federal Advisory Committee Act, Public Law 92-463, as amended, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Tuesday, June 29, 2021, 11:00 a.m.-5:00 p.m., Eastern Time; and Wednesday, June 30, 2021, 11:00 a.m.-5:00 p.m., Eastern Time.

FOR FURTHER INFORMATION CONTACT: Ms. KarShelia Henderson, Science Mission Directorate, NASA Headquarters, Washington, DC 20546, (202) 358-2355, or khenderson@nasa.gov.

SUPPLEMENTARY INFORMATION: The meeting will be virtual and available to the public by WebEx and dial-in teleconference. On Tuesday, June 29, the event address for attendees is: https://nasaenterprise.webex.com/nasaenterprise/j.php?MTID=m19281c9d7b875a40a767c1af1f5fd5d4, the meeting number is 199 024 6323, and meeting password is 2bkHspPS@65. On Wednesday, June 30, the event address for attendees is: https://nasaenterprise.webex.com/nasaenterprise/j.php?MTID=mc4d6d874b2e677b1e6460c8fb1b8df0a, the meeting number is 199 642 8616, and meeting password is XZgYwCr2@65. To join by telephone, the numbers are: 1-929-251-9612 or 1-415-527-5035, for each day.

The agenda for the meeting includes the following topics:

—Astrophysics Division Update

—Updates on Specific Astrophysics Missions

—Reports from the Program Analysis Groups

—Report on Science Activation Program

The agenda will be posted on the Astrophysics Advisory Committee web page: https://science.nasa.gov/researchers/nac/science-advisory-committees/apac.

The public may submit and upvote comments/questions ahead of the meeting through the website https://arc.cnf.io/sessions/qgpt/#!/dashboard that will be opened for input on June 14, 2021.

It is imperative that the meeting be held on this date to accommodate the scheduling priorities of the key participants.

Patricia Rausch,
Advisory Committee Management Officer, National Aeronautics and Space Administration.

[FR Doc. 2021-12446 Filed 6-11-21; 8:45 am]

BILLING CODE 7510-13-P